DEPARTMENT OF TRANSPORTATION

Federal Aviation Administration

14 CFR Part 71

[Docket No. FAA-2014-0085; Airspace Docket No. 14-AEA-2]

Revocation of Class E Airspace; Leesburg, VA

AGENCY: Federal Aviation Administration (FAA), DOT.

ACTION: Final rule.

SUMMARY: This action removes Class E Airspace at Leesburg Executive Airport, Leesburg, VA. Surface area airspace is not required and was published in error in the Federal Register of January 3, 2014.

DATES: Effective 0901 UTC, February 21, 2014. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

On January 3, 2014, the FAA published in the Federal Register a final rule establishing Class E surface airspace at Leesburg Executive Airport, Leesburg, VA (79 FR 346) Docket No. FAA-2013-0033. The Class E surface area airspace was published in error and is removed. Class E airspace designations are published in paragraph 6002 of FAA Order 7400.9X dated August 7, 2013, and effective September 15, 2013, which is incorporated by reference in 14 CFR Part 71.1.

The Rule

This amendment to Title 14, Code of Federal Regulations (14 CFR) part 71 removes Class E surface area airspace within a 6-mile radius at Leesburg Executive Airport, Leesburg, VA, Potomac TRACON found the airspace would not add to the orderly flow of air traffic in the area. The final rule published in the Federal Register of January 3, 2014, (FR 79 346), Docket No. FAA-2013-0033, establishing Class E surface area airspace at Leesburg Executive Airport, Leesburg, VA, was published in error.

Since any delay in removing the controlled airspace in order to seek public comment would be inconsistent with the agency's safety mandate, immediate corrective action is required in the interest of flight safety. Therefore, notice and public procedure under 5 U.S.C. 553(b) is impracticable and contrary to the public interest. Also, in consideration of the need to remove this controlled airspace to avoid confusion on the part of pilots flying in the vicinity of Leesburg, VA, and the Washington Dulles International Airport area, the FAA finds good cause, pursuant to 5 U.S.C. 553(d), for making this amendment effective in less than 30 days in order to promote the safe and efficient handling of airspace in the area.

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it removes controlled airspace at Leesburg Executive Airport, Leesburg, VA.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Lists of Subjects in 14 CFR Part 71

Airspace, Incorporation by reference, Navigation (air).

Adoption of Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9X, Airspace Designations and Reporting Points, dated August 7, 2013, effective September 15, 2013, is amended as follows:

Paragraph 6002 Class E Airspace Areas Extending Upward from the Surface of the Earth.

AEA VA E2 Leesburg, VA [Removed]

Issued in College Park, Georgia, on February 11, 2014.
Eric Fox,
Acting Manager, Operations Support Group, Eastern Service Center, Air Traffic Organization.

[FR Doc. 2014-03546 Filed 2-20-14; 8:45 am]

BILLING CODE 4910-13-P